ENVIRONMENTAL PROTECTION AGENCY

40 CFR Part 312

[SFUND-2004-0001; FRL-7816-6]

RIN 2050-AF04

Notice of Public Meeting To Discuss Standards and Practices for All Appropriate Inquiries

AGENCY: Environmental Protection Agency.

ACTION: Notice of public meeting.

SUMMARY: The U.S. Environmental Protection Agency (EPA) will hold a public meeting to discuss EPA's proposed rule that would set federal standards and practices for conducting all appropriate inquiries, as required under sections 101(35)(B)(ii) and (iii) of the Comprehensive Environmental Response, Compensation, and Liability Act (CERCLA). The proposed rule was published in the Federal Register on August 26, 2004 (69 FR 52541) and is available on the EPA Web site at http://www.epa.gov/brownfields. The public meeting will be held on Thursday, November 18, 2004 in San Francisco, California, at the times and location specified below.

The purpose of the public meeting is for EPA to listen to the views of stakeholders and the general public on the Agency's proposed standards and practices for all appropriate inquiries. During the public meeting, EPA officials will discuss the proposed rule, as well as accept public comment and input on the proposed rule.

DATES: The public meeting will be held on November 18, 2004 at the Park Hyatt San Francisco Hotel at Embarcadero Center. The meeting will be held from 2 p.m. to 4 p.m. PST.

ADDRESSES: The public meeting will be held in the Mercantile Room of the Park Hyatt San Francisco Hotel at Embarcadero Center, 333 Battery Street, San Francisco, California 94111.

FOR FURTHER INFORMATION CONTACT: For additional information, contact Patricia Overmeyer of EPA's Office of Brownfields Cleanup and Redevelopment at (202) 566-2774 or overmeyer.patricia@epa.gov.

SUPPLEMENTARY INFORMATION: The meeting is open to the general public. Interested parties and the general public are invited to participate in the public meeting. Parties wishing to provide their views to EPA on the proposed rule, or to listen to the views of other parties, are encouraged to attend the public meeting. Any person may speak at the public meeting; however, we encourage those planning to give oral testimony to pre-register with EPA. Those planning to speak at the public meeting should notify Patricia Overmeyer or Sven-Erik Kaiser, of EPA's Office of Brownfields Cleanup and Redevelopment, U.S. Environmental Protection Agency (Mail Code 5105T), 1200 Pennsylvania Avenue, NW., Washington, DC 20460, no later than November 10, 2004. Patricia Overmeyer can be contacted at (202) 566-2774 or overmeyer.patricia@epa.gov. Sven-Erik Kaiser can be contacted at (202) 566-2753 or kaiser.sven-erik@epa.gov. If you cannot pre-register, you may sign up at the door starting two hours before the start of the meeting in San Francisco on November 18, 2004. Oral testimony will be limited to 7 minutes per participant. Any member of the public may file a written statement in addition to, or in lieu of, making oral testimony. A verbatim transcript of the hearing and any written statements received by EPA at the public meeting will be made available at the OSWER Docket and on the EDOCKET Web site, at the addresses provided below. If you plan to attend the public hearing and need special assistance, such as sign language interpretation or other reasonable accommodations, contact Patricia Overmeyer or Sven-Erik Kaiser, at the above email addresses or phone numbers.

Interested parties not able to attend the public meeting may submit written comments to the Agency. All written comments must be submitted to EPA in compliance with the instructions that will be provided in the preamble to the proposed rule. The instructions are summarized below.

Parties wishing to comment on the proposed rule may submit written comments to EPA. Comments must be submitted to EPA no later than November 30, 2004. Submit your written comments, identified by Docket ID No. SFUND-2004-0001, by one of the following methods:

1. Federal eRulemaking Portal: http://www.regulations.gov. Follow the on-line instructions for submitting comments.

2. Agency Web Site: http://www.epa.gov/edocket. EDOCKET, EPA's electronic public docket and comment system, is EPA's preferred method for receiving comments. Follow the on-line instructions for submitting comments.

3. E-mail: Comments may be sent by electronic mail to superfund.docket@epa.gov, /Attention Docket ID No. SFUND-2004-0001.

4. Mail: Send comments to the OSWER Docket, Environmental Protection Agency, Mail Code: 5305T, 1200 Pennsylvania Ave., NW., Washington, DC 20460, Attention Docket ID No. SFUND-2004-0001. In addition, please mail a copy of your comments on the information collection provisions to the Office of Information and Regulatory Affairs, Office of Management and Budget (OMB), Attn: Desk Officer for EPA, 725 17th St., NW., Washington, DC 20503.

5. Hand Delivery: Deliver your comments to the EPA Docket Center, EPA West Building, Room B102, 1301 Constitution Ave., NW., Washington, DC, Attention Docket ID No. SFUND-2004-0001. Such deliveries are only accepted during the Docket's normal hours of operation, and special arrangements should be made for deliveries of boxed information.

Instructions: Direct your comments to Docket ID No. SFUND-2004-0001. EPA's policy is that all comments received will be included in the public docket without change and may be made available online at http://www.epa.gov/edocket, including any personal information provided, unless the comment includes information claimed to be Confidential Business Information (CBI) or other information whose disclosure is restricted by statute. Do not submit information that you consider to be CBI or otherwise protected through EDOCKET, regulations.gov, or e-mail. The EPA EDOCKET and the federal regulations.gov Web sites are “anonymous access” systems, which means EPA will not know your identity or contact information unless you provide it in the body of your comment. If you send an e-mail comment directly to EPA without going through EDOCKET or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit EDOCKET on-line or see the Federal Register of May 31, 2002 (67 FR 38102).

Dated: September 15, 2004.
Linda Garczynski,
Director, Office of Brownfields Cleanup and Redevelopment.

[FR Doc. 04-21182 Filed 9-20-04; 8:45 am]

BILLING CODE 6560-50-P